DEPARTMENT OF HEALTH AND HUMAN SERVICES

Food and Drug Administration

21 CFR Part 528

New Animal Drugs in Genetically Engineered Animals

CFR Correction

In Title 21 of the Code of Federal Regulations, Parts 500-599, revised as of April 1, 2009, on page 359, the heading for part 528 is corrected to read “NEW ANIMAL DRUGS IN GENETICALLY ENGINEERED ANIMALS”.

[FR Doc. E9-27305 Filed 11-10-09; 8:45 am]

BILLING CODE 1505-01-D